DEPARTMENT OF THE INTERIOR

Minerals Management Service

[Docket No. MMS-2008-OMM-0007]

MMS Information Collection Activity: 1010-0141, 30 CFR Part 250, Subpart D, Oil and Gas Drilling Operations, Extension of a Collection; Submitted for Office of Management and Budget (OMB) Review; Comment Request

AGENCY: Minerals Management Service (MMS), Interior.

ACTION: Notice of extension of an information collection (1010-0141).

SUMMARY: To comply with the Paperwork Reduction Act of 1995 (PRA), we are notifying the public that we have submitted to OMB an information collection request (ICR) to renew approval of the paperwork requirements in the regulations under 30 CFR Part 250, Subpart D, Oil and Gas Drilling Operations. This notice also provides the public a second opportunity to comment on the paperwork burden of these regulatory requirements.

ADDRESSES: You should submit comments directly to the Office of Information and Regulatory Affairs, OMB, Attention: Desk Officer for the Department of the Interior (1010-0141), either by fax (202) 395-6566 or e-mail (OIRA_DOCKET@omb.eop.gov).

Please also send a copy to MMS by either of the following methods:

• http://www.regulations.gov. Under the tab “More Search Options,” click Advanced Docket Search, then select “Minerals Management Service” from the agency drop-down menu, then click “submit.” In the Docket ID column, select MMS-2008-OMM-0007 to submit public comments and to view supporting and related materials available for this rulemaking. Information on using Regulations.gov, including instructions for accessing documents, submitting comments, and viewing the docket after the close of the comment period, is available through the site's “User Tips” link. The MMS will post all comments.

• Mail or hand-carry comments to the Department of the Interior, Minerals Management Service; Attention: Cheryl Blundon, 381 Elden Street, MS-4024, Herndon, Virginia 20170-4817. Please reference “Information Collection 1010-0141” in your subject line and mark your message for return receipt. Include your name and return address in your message text.

FOR FURTHER INFORMATION CONTACT: Cheryl Blundon, Regulations and Standards Branch, (703) 787-1607. You may also contact Cheryl Blundon to obtain a copy, at no cost, of the regulations and forms that require the subject collection of information.

SUPPLEMENTARY INFORMATION: Title: 30 CFR Part 250, Subpart D, Oil and Gas Drilling Operations.

Forms: MMS-123, MMS-123S, MMS-124, MMS-125, MMS-133, and MMS-133S.

OMB Control Number: 1010-0141.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the Outer Continental Shelf should be conducted in a safe manner by well-trained personnel using technology, precautions, and other techniques sufficient to prevent or minimize the likelihood of blowouts, loss of well control, fires, spillages, physical obstructions to other users of the waters or subsoil and seabed, or other occurrences which may cause damage to the environment or to property or endanger life or health.”

Regulations implementing these responsibilities are under 30 CFR part 250, subpart D. Responses are mandatory or are required to obtain or retain a benefit. No questions of a “sensitive” nature are asked. The MMS will protect proprietary information according to 30 CFR 250.197, “Data and information to be made available to the public or for limited inspection,” 30 CFR part 252, “OCS Oil and Gas Information Program,” and the Freedom of Information Act (5 U.S.C. 552) and its implementing regulations (43 CFR part 2).

The MMS needs the information to ensure safe drilling operations and to protect the human, marine, and coastal environment. Among other things, MMS specifically uses the information to ensure: The drilling unit is fit for the intended purpose; the lessee or operator will not encounter geologic conditions that present a hazard to operations; equipment is maintained in a state of readiness and meets safety standards; each drilling crew is properly trained and able to promptly perform well-control activities at any time during well operations; compliance with safety standards; and the current regulations will provide for safe and proper field or reservoir development, resource evaluation, conservation, protection of correlative rights, safety, and environmental protection. We also review well records to ascertain whether drilling operations have encountered hydrocarbons or H2S and to ensure that H2S detection equipment, personnel protective equipment, and training of the crew are adequate for safe operations in zones known to contain H2S and zones where the presence of H2S is unknown.

The following forms are also submitted to MMS under subpart D. The forms and their purposes are:

Application for Permit To Drill, Forms MMS-123 and MMS-123S

The MMS uses the information from these forms to determine the conditions of a drilling site to avoid hazards inherent in drilling operations. Specifically, the appropriate MMS District Office uses the information to evaluate the adequacy of a lessee's plan and equipment for drilling, sidetracking or bypass operations. This includes the adequacy of the proposed casing design, casing setting depths, drilling fluid (mud), and cementing programs to ascertain that the proposed operations will be conducted in an operationally safe manner that provides adequate protection for the environment. The District Office also reviews the information to ensure conformance with specific provisions of the lease. In addition, except for proprietary data, MMS is required by the OCS Lands Act to make available to the public certain information submitted on forms MMS-123 and MMS-123S.

Application for Permit To Modify, Form MMS-124

The MMS uses the information on this form to evaluate and approve the adequacy of the equipment, materials, and/or procedures that the lessee plans to use during such post APD modifications or operations as plugging back or temporary abandonment where the well bore will be reentered and completed or permanently plugged. In addition, except for proprietary data, MMS is required by the OCS Lands Act to make available to the public certain information submitted on form MMS-124.

End of Operations Report, Form MMS-125

The MMS uses this information to ensure that they have accurate and up-to-date data and information on wells and leasehold activities under their jurisdiction and to ensure compliance with approved plans and any conditions placed upon a suspension or temporary prohibition. It is also used to evaluate the remedial action in the event of well equipment failure or well control loss. Form MMS-125 is updated and resubmitted in the event the well status changes. The information keeps MMS aware of the status of drilling and completion operations. In addition, except for proprietary data, MMS is required by the OCS Lands Act to make available to the public certain information submitted on form MMS-125.

Well Activity Report, Forms MMS-133 and MMS-133S

The MMS uses this information to monitor the conditions of a well and status of drilling operations. Specifically, the drilling engineer in the District Office reviews the information to be aware of the well conditions and current drilling activity (i.e., well depth, drilling fluid weight, casing types and setting depths, completed well logs, and recent safety equipment tests and drills). The engineer uses this information to determine how accurately the lessee anticipated well conditions and if the lessee is following the approved Application for Permit to Drill (form MMS-123). The MMS engineer and District Supervisor also use the information in their review of an Application for Permit to Modify (form MMS-124). With the information collected on form MMS-133 available, the reviewers can analyze the proposed revisions (i.e., revised grade of casing or deeper casing setting depth) and make a quick and informed decision on the request.

In addition, except for proprietary data, MMS is required by the OCS Lands Act to make available to the public certain information submitted on forms MMS-133 and MMS-133S.

Frequency: Submissions are generally on occasion, weekly, monthly, semi-annually, annually, and varies by section.

Estimated Number and Description of Respondents: Approximately 130 respondents (Federal oil and gas OCS lessees).

Estimated Reporting and Recordkeeping “Hour” Burden: The estimated annual “hour” burden for this information collection is a total of 146,827 hours. The following chart details the individual components and estimated hour burdens. In calculating the burdens, we assumed that respondents perform certain requirements in the normal course of their activities. We consider these to be usual and customary and took that into account in estimating the burden.

BILLING CODE 4310-MR-P

BILLING CODE 4310-MR-C

Estimated Reporting and Recordkeeping “Non-Hour Cost” Burden: We have identified two non-hour cost burdens for this collection. When respondents submit an Application for Permit to Drill (Form MMS-123), they submit a $1,850 fee for initial applications only (there is no fee for revisions); and when respondents submit an Application for Permit to Modify (Form MMS-124), they submit a $110 fee. These two fees total $1,789,340. Refer to the chart to see these specific fee breakdowns. We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on January 28, 2008, we published a Federal Register notice (73 FR 4911) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by July 31, 2008.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: May 13, 2008.
E.P. Danenberger,
Chief, Office of Offshore Regulatory Programs.

[FR Doc. E8-14893 Filed 6-30-08; 8:45 am]

BILLING CODE 4310-MR-P